INTERNATIONAL TRADE COMMISSION

[USITC SE-07-027]

Government in the Sunshine Act Meeting Notice

Agency Holding The Meeting: United States International Trade Commission.

Time And Date: December 6, 2007 at 11 a.m.

Place: Room 101, 500 E Street, SW., Washington, DC 20436, Telephone: (202) 205-2000.

Status: Open to the public.

Matters To Be Considered: 1. Agenda for future meetings: None.

2. Minutes.

3. Ratification List.

4. Inv. No. 731-TA-1135 (Preliminary) (Sodium Metal from France)—briefing and vote. (The Commission is currently scheduled to transmit its determination to the Secretary of Commerce on or before December 7, 2007; Commissioners' opinions are currently scheduled to be transmitted to the Secretary of Commerce on or before December 14, 2007.)

5. Outstanding action jackets:

1. Document GC-07-225 (Administrative matter).

In accordance with Commission policy, subject matter listed above, not disposed of at the scheduled meeting, may be carried over to the agenda of the following meeting.

By order of the Commission.
Issued: November 26, 2007.
William R. Bishop,
Hearings and Meetings Coordinator.

[FR Doc. E7-23181 Filed 11-28-07; 8:45 am]

BILLING CODE 7020-02-P